DEPARTMENT OF TRANSPORTATION

Federal Aviation Administration

Agency Information Collection Activities: Requests for Comments; Clearance of Renewed Approval of Information Collection: Aviation Research Grants Program

AGENCY: Federal Aviation Administration (FAA), DOT.

ACTION: Notice and request for comments.

SUMMARY: In accordance with the Paperwork Reduction Act of 1995, FAA invites public comments about our intention to request the Office of Management and Budget (OMB) approval to renew an information collection. The FAA Aviation Research and Development Grants Program establishes uniform policies and procedures for the award and administration of research grants to colleges, universities, not for profit organizations, and profit organizations for security research. The collection of data is required from prospective grantees in order to adhere to applicable statutes and OMB circulars.

DATES: Written comments should be submitted by August 26, 2013.

FOR FURTHER INFORMATION CONTACT: Kathy DePaepe at (405) 954-9362, or by email at: Kathy.A.DePaepe@faa.gov.

SUPPLEMENTARY INFORMATION:

OMB Control Number: 2120-0559.

Title: Aviation Research Grants Program.

Form Numbers: SF-269, SF-270, SF-272, SF-424, SF-3881, FAA Form 9550-5.

Type of Review: Renewal of an information collection.

Background: This program implements OMB Circular A-110, Public Law 101-508, Section 9205 and 9208 and Public Law 101-604, Section 107(d). Information is required from grantees for the purpose of grant administration and review in accordance with applicable OMB circulars. The information is collected through a solicitation that has been published by the FAA. Prospective grantees respond to the solicitation using a proposal format outlined in the solicitation in adherence to applicable FAA directives, statutes, and OMB circulars.

Respondents: Approximately 100 grantees.

Frequency: Information is collected on occasion.

Estimated Average Burden per Response: 6.5 hours.

Estimated Total Annual Burden: 650 hours.

ADDRESSES: Send comments to the FAA at the following address: Ms. Kathy DePaepe, Room 126B, Federal Aviation Administration, AES-200, 6500 S. MacArthur Blvd., Oklahoma City, OK 73169.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC on June 20, 2013.
Albert R. Spence,
FAA Assistant Information Collection Clearance Officer, IT Enterprises Business Services Division, AES-200.

[FR Doc. 2013-15323 Filed 6-26-13; 8:45 am]

BILLING CODE 4910-13-P